DEPARTMENT OF THE INTERIOR

National Park Service

Draft General Management Plan/Environmental Impact Statement, Hovenweep National Monument, Colorado and Utah

AGENCY: National Park Service, Department of the Interior.

ACTION: Notice of termination of the Environmental Impact Statement for the General Management Plan, Hovenweep National Monument.

SUMMARY: The National Park Service (NPS) is terminating preparation of an Environmental Impact Statement (EIS) for the General Management Plan, Hovenweep National Monument, Colorado and Utah. A Notice of Intent to prepare the EIS for the Hovenweep National Monument General Management Plan was published in Vol. 68, No. 167, of the August 28, 2003, Federal Register (2351). The National Park Service has since determined that an Environmental Assessment (EA) rather than an EIS is the appropriate environmental documentation for the general management plan.

SUPPLEMENTARY INFORMATION: The general management plan will establish the overall direction for the national monument, setting broad management goals for managing the area over the next 15 to 20 years. The plan was originally scoped as an EIS. However, few public comments were received in the scoping process. Although some concerns were expressed during the public scoping process, particularly on the potential for impacts related to energy exploration in areas adjacent to the national monument, no issues were identified for the general management plan that have the potential for controversial impacts.

In the general management planning process the NPS planning team developed two alternatives for the national monument, neither of which would result in substantial changes in the operation and management of the monument. As the park does not have a general management plan, management under the no-action alternative would continue existing operations with no changes in interpretation, resource protection strategies, or facility development. The action alternative would focus on maintaining and protecting resources, addressing park maintenance/operations needs and developing a maintenance facility within previously disturbed areas. The preliminary impact analysis of the alternatives revealed no major (significant) effects on the human environment or impairment of park resources and values. Most of the impacts to the national monument's resources and values were negligible to minor in magnitude.

For these reasons the NPS determined the appropriate National Environmental Policy Act documentation for the general management plan is an environmental assessment.

DATES: The draft general management plan/environmental assessment is expected to be distributed for a 30 day public comment period in the fall of 2006 and a decision is expected be made in the fall of 2006. The NPS will notify the public by mail, Web site, and other means, and will include information on where and how to obtain a copy of the EA, how to comment on the EA, and the length of the public comment period.

FOR FURTHER INFORMATION CONTACT: Coralee Hays, Superintendent, Hovenweep National Monument; McElmo Route, Cortez, CO 81321; Telephone: (970) 562-4282; e-mail corky_hays@nps.gov.

Dated: June 14, 2006.
Hal J. Grovert,
Acting Director, Intermountain Region.

[FR Doc. 06-6473 Filed 7-25-06; 8:45 am]

BILLING CODE 4312-CN-M